FEDERAL COMMUNICATIONS COMMISSION

[Report No. 2724]

Petitions for Reconsideration of Action in Rulemaking Proceeding

August 4, 2005.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by September 1, 2005. See Section 1.4(b)(1) of the Commission's rules (47 CFR 1.4(b)(1)). Replies to an opposition must be filed within 10 days after the time for filing oppositions have expired.

Subject: In the Matter of the Development of Operational, Technical and Spectrum Requirements for Meeting Federal, State and Local Public Safety Communications Requirements through the year 2010 (WT Docket 96-86).

In the Matter of Petition for Waiver of the Part 15 UWB Regulations Filed by the Multi-band OFDM Alliance Special Interest Group (ET Docket 04-352)

Number of Petitions Filed: 2.

Marlene H. Dortch,
Secretary.

[FR Doc. 05-16333 Filed 8-16-05; 8:45 am]

BILLING CODE 6712-01-U